DEPARTMENT OF HEALTH AND HUMAN SERVICES

Centers for Disease Control and Prevention

Solicitation of Nominations for Appointment to CDC's Advisory Committee to the Director Data and Surveillance Workgroup

ACTION: Notice.

SUMMARY: The Centers for Disease Control and Prevention (CDC), within the Department of Health and Human Services (HHS), is seeking nominations for membership on the Advisory Committee to the Director (ACD) Data and Surveillance Workgroup (DSW). The DSW will consist of approximately 15 members who are experts in fields associated with public health science and practice; policy development, analysis, and implementation; and surveillance and informatics.

DATES: Nominations for membership on the DSW workgroup must be received no later than May 16, 2022. Late nominations will not be considered for membership.

ADDRESSES: All nominations (cover letters and curriculum vitae) should be emailed to DSWACD@cdc.gov with the subject line: “Nomination for CDC ACD DSW Workgroup.”

FOR FURTHER INFORMATION CONTACT: Rachel Holloway, MPH, Office of the Chief of Staff, Centers for Disease Control and Prevention, 1600 Clifton Road NE, Mailstop H21-10, Atlanta, Georgia 30329-4027; Telephone: (404) 639-7000; Email: DSWACD@cdc.gov.

SUPPLEMENTARY INFORMATION:

Background: The purpose of the ACD, CDC is to advise the Secretary, HHS, and the Director, CDC, on policy and broad strategies that will enable CDC to fulfill its mission of protecting health through health promotion, prevention, and preparedness. The ACD, CDC consists of up to 15 non-federal members, including the Chair, knowledgeable in areas pertinent to the CDC mission, such as health policy, public health, global health, preparedness, preventive medicine, the faith-based and community-based sector, and allied fields.

Purpose: The establishment and formation of the DSW is to provide input to the ACD, CDC on agency-wide activities related to the scope and implementation of CDC's data modernization strategy across the agency, ultimately playing a key role in the agency's work with public health, healthcare, and academic and private sector partners and with the promotion of equity. The DSW membership will consist of approximately 15 members. It will be co-chaired by two current ACD, CDC Special Government Employees. The DSW co-chairs will present their findings, observations, and work products at one or more ACD, CDC meetings for discussion, deliberation, and decisions (final recommendations to CDC).

Nomination Criteria: DSW members will serve terms ranging from six months to one year and be required to attend DSW meetings approximately 1-2 times per month (virtually or in person), and contribute time between meetings for research, consultation, discussion, and writing assignments.

Nominations are being sought for individuals who have the expertise and qualifications necessary to contribute to the accomplishments of the committee's/workgroup's objectives. Nominees will be selected based on expertise in the fields of public health science and practice; public health preparedness and response; public health policy development, analysis, and implementation; public health surveillance and informatics; data analysis, data science, and forecasting; health information technology; and healthcare delivery from jurisdictional government agencies, non-government organizations, academia, and the private sector. To ensure a diverse workgroup composition, nominees with front line and field experience at the local, state, tribal, and territorial levels are encouraged to apply. This includes nominees with experience working for, and with, community-based organizations and other non-profit organizations. Federal employees will not be considered for membership. Selection of members is based on candidates' qualifications to contribute to the accomplishment of the DSW's objectives.

HHS policy stipulates that membership be balanced in terms of points of view represented and the workgroup's function.

Appointments shall be made without discrimination based on age, race, ethnicity, gender, sexual orientation, gender identity, HIV status, disability, and cultural, religious, or socioeconomic status. Nominees must be U.S. citizens and cannot be full-time employees of the U.S. Government. Current participation on federal workgroups or prior experience serving on a federal advisory committee does not disqualify a candidate; however, HHS policy is to avoid excessive individual service on advisory committees and multiple committee memberships.

Interested candidates should submit the following items:

A one-half to one-page cover letter that includes your understanding of, and commitment to, the time and work necessary; one to two sentences on your background and experience; and one to two sentences on the skills/perspective you would bring to the DSW.

Current curriculum vitae which highlights the experience and work history being sought relevant to the criteria set forth above, including complete contact information (telephone numbers, mailing address, email address).

Nominations may be submitted by the candidate him or herself, or by the person/organization recommending the candidate.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2022-09538 Filed 5-3-22; 8:45 am]

BILLING CODE 4163-18-P